DEPARTMENT OF TRANSPORTATION

Federal Aviation Administration

14 CFR Part 39

[Docket No. FAA-2013-0090; Directorate Identifier 2012-NM-149-AD; Amendment 39-17595; AD 2013-19-13]

RIN 2120-AA64

Airworthiness Directives; The Boeing Company Airplanes

AGENCY: Federal Aviation Administration (FAA), DOT.

ACTION: Final rule.

SUMMARY: We are adopting a new airworthiness directive (AD) for certain The Boeing Company Model 747-100, 747-100B, 747-100B SUD, 747-200B, 747-200C, 747-300, 747-400, 747-400D, and 747SP series airplanes. This AD was prompted by reports of worn or incorrectly assembled latches on main deck escape slides installed on airplane doors. This AD requires determining if the latches are correctly assembled; and doing corrective actions if necessary. This AD also requires, for certain airplanes, modifications to the escape slide/rafts and escape slides. We are issuing this AD to prevent a latch hook moving from closed to open in an escape slide/raft or escape slide, which could result in the escape slide/raft or escape slide not deploying correctly in an emergency, or releasing/inflating into the passenger cabin and causing injury to passengers and crew.

DATES: This AD is effective November 6, 2013.

The Director of the Federal Register approved the incorporation by reference of certain publications listed in this AD as of November 6, 2013.

ADDRESSES: For Boeing service information identified in this AD, contact Boeing Commercial Airplanes, Attention: Data & Services Management, P. O. Box 3707, MC 2H-65, Seattle, WA 98124-2207; telephone 206-544-5000, extension 1; fax 206-766-5680; Internet https://www.myboeingfleet.com. For Goodrich service information identified in this AD, contact Goodrich Corporation, Aircraft Interior Products, ATTN: Technical Publications, 3414 South Fifth Street, Phoenix, AZ 85040-1169; telephone 602-243-2200; Internet http://www.goodrich.com/TechPubs. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Sarah Piccola, Aerospace Engineer, Cabin Safety and Environmental Systems Branch, ANM-150S, FAA, Seattle Aircraft Certification Office, 1601 Lind Avenue SW., Renton, WA 98057-3356; phone: 425-917-6483; fax: 425-917-6590; email: sarah.piccola@faa.gov.

SUPPLEMENTARY INFORMATION:

Discussion

We issued a notice of proposed rulemaking (NPRM) to amend 14 CFR part 39 by adding an AD that would apply to the specified products. The NPRM published in the Federal Register on February 8, 2013 (78 FR 9346). The NPRM proposed to require determining if the latches on main deck escape slides installed on airplane doors are correctly assembled; and doing corrective actions if necessary. The NPRM also proposed to require, for certain airplanes, modifications to the escape slide/rafts and escape slides.

Comments

We gave the public the opportunity to participate in developing this AD. The following presents the comments received on the proposal (78 FR 9346, February 8, 2013) and the FAA's response to each comment.

Request To Extend Compliance Time

Delta Air Lines (DAL) requested that the compliance time in the NPRM (78 FR 9346, February 8, 2013) be extended to 60 months. DAL stated that this will allow for the modification to be accomplished at the next scheduled overhaul for DAL's affected slides.

We disagree with DAL's request to extend the compliance time. In developing an appropriate compliance time for this action, we considered the safety implications, parts availability, and normal maintenance schedules for the timely accomplishment of the inspections and modification. However, under the provisions of paragraph (j) of this final rule, we will consider requests for approval of an extension of the compliance time if sufficient data are submitted to substantiate that the new compliance time would provide an acceptable level of safety. We have not changed this final rule in this regard.

Requests To Refer to Revised Service Information

United Airlines and Boeing stated that Boeing has issued revised service information. The commenters requested that the service information in the NPRM (78 FR 9346, February 8, 2013) be updated to refer to Boeing Special Attention Service Bulletin 747-25-3428, Revision 4, dated February 25, 2013.

DAL requested that the NPRM (78 FR 9346, February 8, 2013) be revised to allow the replacement of affected slides with slides on which the inspection and modification have been done in accordance with the Accomplishment Instructions of Boeing Special Attention Service Bulletin 747-25-3428, Revision 3, dated June 14, 2012.

We agree with United Airlines' and Boeing's requests and have revised paragraphs (c), (g), and (h) in this final rule to refer to Boeing Special Attention Service Bulletin 747-25-3428, Revision 4, dated February 25, 2013.

We also agree with DAL's request and have revised paragraph (i) of this final rule by redesignating paragraph (i) of the NPRM (78 FR 9346, February 8, 2013) as paragraph (i)(2), and adding new paragraph (i)(1), which provides credit for the applicable actions required by paragraph (g) of this final rule, if those actions were performed before the effective date of this final rule using Boeing Special Attention Service Bulletin 747-25-3428, Revision 3, dated June 14, 2012.

Request To Allow Replacement of Slides Using a Means Other Than the Service Information

DAL requested that, alternatively, the proposed AD (78 FR 9346, February 8, 2013) be revised to include a statement that accomplishment of the inspection and modification by means of an approved routine maintenance item would be acceptable.

As previously stated, we deem it acceptable to replace an affected part with a part that has been inspected and modified in accordance with the Accomplishment Instructions of Boeing Special Attention Service Bulletin 747-25-3428, Revision 3, dated June 14, 2012.

Regarding the use of an approved maintenance item instead of the Accomplishment Instructions of Boeing Special Attention Service Bulletin 747-25-3428, Revision 3, dated June 14, 2012, DAL included this as a conditional statement if the slide replacement discussed above was deemed unacceptable. As stated above, we agree that affected slides can be replaced with slides that have completed the inspection and modification in accordance with the Accomplishment Instructions of Boeing Special Attention Service Bulletin 747-25-3428, Revision 3, dated June 14, 2012. However, once this final rule is issued, any person may request approval of an AMOC under the provisions of paragraph (j) of this final rule. We have not changed this final rule in this regard.

Additional Change to This Final Rule

We added Note 1 to paragraph (g) of this final rule to reference additional guidance material.

Conclusion

We reviewed the relevant data, considered the comments received, and determined that air safety and the public interest require adopting this AD with the changes described previously—and minor editorial changes. We have determined that these minor changes:

• Are consistent with the intent that was proposed in the NPRM (78 FR 9346, February 8, 2013) for correcting the unsafe condition; and

• Do not add any additional burden upon the public than was already proposed in the NPRM (78 FR 9346, February 8, 2013).

We also determined that these changes will not increase the economic burden on any operator or increase the scope of this AD.

Costs of Compliance

We estimate that this AD affects 121 airplanes of U.S. registry.

We estimate the following costs to comply with this AD:

Estimated Costs
Action | Labor cost | Parts cost | Cost per product | Cost on U.S. operators
Determine if latches are correctly assembled | 1 work-hour × $85 per hour = $85 | $0 | $85 | $10,285.
Option to rework/replace latches instead of determining if latches are correctly assembled | Between 3 and 24 work-hours × $85 per hour = Between $255 and $2,040 | $286 per latch | Between $541 and $2,326 | Between $65,461 and $281,446.

We estimate the following costs to do any necessary replacements that would be required based on the results of the latch assembly determination. We have no way of determining the number of aircraft that might need this replacement:

On-Condition Costs
Action | Labor cost | Parts cost | Cost per product
Corrective action | Between 3 and 24 work-hours × $85 per hour = Between $255 and $2,040 | $286 per latch | Between $541 and $2,326.

According to the manufacturer, all of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-19-13 The Boeing Company: Amendment 39-17595; Docket No. FAA-2013-0090; Directorate Identifier 2012-NM-149-AD.

(a) Effective Date

This AD is effective November 6, 2013.

(b) Affected ADs

None.

(c) Applicability

This AD applies to The Boeing Company Model 747-100, 747-100B, 747-100B SUD, 747-200B, 747-200C, 747-300, 747-400, 747-400D, and 747SP series airplanes; certificated in any category; as identified in Boeing Special Attention Service Bulletin 747-25-3428, Revision 4, dated February 25, 2013; except for Groups 3-4, Configuration 2, and Group 9, Configuration 2, airplanes.

(d) Subject

Joint Aircraft System Component (JASC)/Air Transport Association (ATA) of America Code 25, Equipment/furnishings.

(e) Unsafe Condition

This AD was prompted by reports of worn or incorrectly assembled latches on main deck escape slides installed on airplane doors. We are issuing this AD to prevent a latch hook moving from closed to open in an escape slide/raft or escape slide, which could result in the escape slide/raft or escape slide not deploying correctly in an emergency, or releasing/inflating into the passenger cabin and causing injury to passengers and crew.

(f) Compliance

Comply with this AD within the compliance times specified, unless already done.

(g) Replacement or Rework of Escape Slide Latch Assembly

Within 48 months after the effective date of this AD: Determine if the latches in the main deck escape slide/rafts and the escape slides installed on the airplane doors are correctly assembled, and do all applicable corrective actions, in accordance with the Accomplishment Instructions of Boeing Special Attention Service Bulletin 747-25-3428, Revision 4, dated February 25, 2013. Do all applicable corrective actions before further flight. Options provided in Boeing Special Attention Service Bulletin 747-25-3428, Revision 4, dated February 25, 2013, for determining the correct assembly of the latches are acceptable for the corresponding requirement of this paragraph.

Note 1 to paragraph (g) of this AD: Boeing Special Attention Service Bulletin 747-25-3428, Revision 4, dated February 25, 2013, refers to Goodrich Service Bulletin 25-367, Revision 1, dated May 1, 2012, as an additional source of guidance for unpacking the escape slide/raft assemblies.

(h) Concurrent Requirements

For Groups 1, 5, 10, and 13 airplanes, as identified in Boeing Special Attention Service Bulletin 747-25-3428, Revision 4, dated February 25, 2013: Prior to or concurrently with accomplishing the actions required by paragraph (g) of this AD, replace the packboard cap nuts with flush-type inserts, reinforce the lower packboard support bracket attachments, install hooks, modify the lower liner of the main entry door and packboard, and remove the “Press to Test” circuit panel and associated circuitry, in accordance with the Accomplishment Instructions of Boeing Service Bulletin 747-25-2425, Revision 1, dated September 7, 1979.

(i) Credit for Previous Actions

(1) This paragraph provides credit for the applicable actions required by paragraph (g) of this AD, if those actions were performed before the effective date of this AD using Boeing Special Attention Service Bulletin 747-25-3428, Revision 3, dated June 14, 2012, which is not incorporated by reference in this AD.

(2) This paragraph provides credit for the applicable concurrent actions required by paragraph (h) of this AD, if those actions were performed before the effective date of this AD using Boeing Service Bulletin 747-25-2425, dated August 25, 1978, which is not incorporated by reference in this AD.

(j) Alternative Methods of Compliance (AMOCs)

(1) The Manager, Seattle Aircraft Certification Office (ACO) FAA, has the authority to approve AMOCs for this AD, if requested using the procedures found in 14 CFR 39.19. In accordance with 14 CFR 39.19, send your request to your principal inspector or local Flight Standards District Office, as appropriate. If sending information directly to the manager of the ACO, send it to the attention of the person identified in paragraph (k) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane, and the approval must specifically refer to this AD.

(k) Related Information

(1) For more information about this AD, contact Sarah Piccola, Aerospace Engineer, Cabin Safety and Environmental Systems Branch, ANM-150S, FAA, Seattle Aircraft Certification Office, 1601 Lind Avenue SW., Renton, WA 98057-3356; phone: 425-917-6483; fax: 425-917-6590; email: sarah.piccola@faa.gov.

(2) For Goodrich service information identified in this AD, contact Goodrich Corporation, Aircraft Interior Products, ATTN: Technical Publications, 3414 South Fifth Street, Phoenix, AZ 85040-1169; telephone 602-243-2200; Internet http://www.goodrich.com/TechPubs.

(3) Boeing service information identified in this AD that is not incorporated by reference may be obtained at the addresses specified in paragraphs (l)(3) and (l)(4) of this AD.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Special Attention Service Bulletin 747-25-3428, Revision 4, dated February 25, 2013.

(ii) Boeing Service Bulletin 747-25-2425, Revision 1, dated September 7, 1979. (Pages 1 through 4 of this document are dated September 7, 1979. Pages 5 through 20 of this document are dated August 25, 1978.)

(3) For Boeing service information identified in this AD, contact Boeing Commercial Airplanes, Attention: Data & Services Management, P. O. Box 3707, MC 2H-65, Seattle, WA 98124-2207; telephone 206-544-5000, extension 1; fax 206-766-5680; Internet https://www.myboeingfleet.com.

(4) You may view this service information at FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on September 13, 2013.
Jeffrey E. Duven,
Acting Manager, Transport Airplane Directorate, Aircraft Certification Service.

[FR Doc. 2013-24031 Filed 10-1-13; 8:45 am]

BILLING CODE 4910-13-P